INTERNATIONAL TRADE COMMISSION

[Investigation No. 701-TA-507 (Final)]

Non-Oriented Electrical Steel From Korea; Termination of Investigation

AGENCY: United States International Trade Commission.

ACTION: Notice.

SUMMARY: On October 14, 2014, the Department of Commerce published notice in the Federal Register of a negative final determination of subsidies in connection with the subject investigation concerning Korea (79 FR 61605). Accordingly, pursuant to section 207.40(a) of the Commission's Rules of Practice and Procedure (19 CFR § 207.40(a)), the countervailing duty investigation concerning non-oriented electrical steel from Korea (investigation No. 701-TA-507 (Final)) is terminated. The Commission's ongoing antidumping investigation involving non-oriented electrical steel from Korea (investigation No. 731-TA-1241) will continue.

DATES: Effective Date: October 14, 2014.

FOR FURTHER INFORMATION CONTACT: Edward Petronzio (202-205-3176), Office of Investigations, U.S. International Trade Commission, 500 E Street SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its Internet server (http://www.usitc.gov). The public record for these investigations may be viewed on the Commission's electronic docket (EDIS) at http://edis.usitc.gov.

Authority: This investigation is being terminated under authority of title VII of the Tariff Act of 1930; this notice is published pursuant to section 201.10 of the Commission's rules (19 CFR § 201.10).

By order of the Commission.
Issued: October 23, 2014.
Lisa R. Barton,
Secretary to the Commission.

[FR Doc. 2014-25659 Filed 10-28-14; 8:45 am]

BILLING CODE 7020-02-P